DEPARTMENT OF VETERANS AFFAIRS

Professional Certification and Licensure Advisory Committee; Notice of Meeting

The Department of Veterans Affairs (VA) gives notice under Public Law 92-463 (Federal Advisory Committee Act) that the Professional Certification and Licensure Advisory Committee will meet at the Department of Veterans Affairs, Veterans Benefits Administration Education Conference Room 601V, 1800 G St. NW., Washington, DC, on Tuesday, April 23, 2002, from 8:30 a.m. to 4 p.m., and from 8 a.m. and 12 p.m. on Wednesday, April 24, 2002. The meeting is open to the public. The purpose of the committee is to review the requirements of organizations or entities offering licensing and certification tests to individuals for which payment for such tests may be made under chapters 30, 32, 34, or 35 of Title 38, United States Code.

On April 23, the meeting will begin with opening remarks and an overview by Ms. Sandra Winborne, Committee Chair. During the morning session, discussions will include outreach actions and training for State approving agency personnel. During the afternoon session, the Committee will discuss related programs including: Certification Opportunities On-Line, Defense Activities Non-Traditional Education Support, and Licensing and Certification Approval System. The day's agenda will conclude with a review of past unfinished business. On April 24, the meeting will include opportunities to discuss the materials presented on the previous day and any new business or other related issues the Committee deems appropriate.

Those planning to attend this open meeting should contact Mr. Giles Larrabee or Mr. Michael Yunker at (202) 273-7187. Interested persons may attend, appear before, or file statements with the Committee. Statements, if in written form, may be filed before the meeting, or within 10 days after the meeting. Oral statements will be heard at 9 a.m. Wednesday, April 24, 2002.

Dated: April 4, 2002.
By direction of the Secretary.
Nora E. Egan,
Committee Management Officer.

[FR Doc. 02-8775 Filed 4-10-02; 8:45 am]

BILLING CODE 8320-01-M